DEPARTMENT OF COMMERCE

International Trade Administration

[A-201-820]

Fresh Tomatoes From Mexico

AGENCY: Import Administration, International Trade Administration, Department of Commerce.

ACTION: Notice of termination of suspension agreement, termination of five-year sunset review, and resumption of antidumping investigation: Fresh Tomatoes from Mexico.

EFFECTIVE DATE: January 18, 2008.

SUMMARY: On November 26, 2007, Mexican tomato growers/exporters accounting for a significant percentage of all fresh tomatoes imported into the United States from Mexico provided written notice to the Department of Commerce of their withdrawal from the agreement suspending the antidumping investigation on fresh tomatoes from Mexico. Because the suspension agreement will no longer cover substantially all imports of fresh tomatoes from Mexico once this withdrawal becomes effective, the Department of Commerce is terminating the suspension agreement, terminating the sunset review of the suspended investigation, and resuming the antidumping investigation.

FOR FURTHER INFORMATION CONTACT: Judith Wey Rudman or Jay Carreiro at (202) 482-0192 or (202) 482-3674, respectively; Office of Policy, Import Administration, International Trade Administration, U.S. Department of Commerce, 14th Street & Constitution Avenue, NW., Washington, DC 20230.

SUPPLEMENTARY INFORMATION:

Applicable Statute and Regulations

Unless otherwise indicated, all citations to the statute are references to the provisions effective January 1, 1995, the effective date of the amendments made to the Tariff Act of 1930 (the Act) by the Uruguay Round Agreements Act. In addition, unless otherwise indicated, all citations to Department of Commerce (Department) regulations refer to the regulations codified at 19 CFR part 353 (1996).

Background

On April 18, 1996, the Department initiated an antidumping investigation to determine whether imports of fresh tomatoes from Mexico are being, or are likely to be, sold in the United States at less than fair value (LTFV) (61 FR 18377, April 25, 1996). On May 16, 1996, the United States International Trade Commission (ITC) notified the Department of its affirmative preliminary injury determination.

On October 10, 1996, the Department and Mexican tomato growers/exporters initialed a proposed agreement suspending the antidumping investigation. On October 28, 1996, the Department preliminarily determined that imports of fresh tomatoes from Mexico are being sold at LTFV in the United States. See Notice of Preliminary Determination of Sales at Less Than Fair Value and Postponement of Final Determination: Fresh Tomatoes from Mexico, 61 FR 56608 (November 1, 1996) (Preliminary Determination). On the same day the Preliminary Determination was signed, the Department and certain growers/exporters of fresh tomatoes from Mexico signed an agreement to suspend the investigation (1996 Suspension Agreement). See Suspension of Antidumping Investigation: Fresh Tomatoes from Mexico, 61 FR 56618 (November 1, 1996).

On May 31, 2002, Mexican tomato growers/exporters accounting for a significant percentage of all fresh tomatoes imported into the United States from Mexico provided written notice to the Department of their withdrawal from the 1996 Suspension Agreement, effective July 30, 2002. Because the 1996 Suspension Agreement would no longer cover substantially all imports of fresh tomatoes from Mexico, effective July 30, 2002, the Department terminated the 1996 Suspension Agreement, terminated the sunset review of the suspended investigation, and resumed the antidumping investigation. See Notice of Termination of Suspension Agreement, Termination of Sunset Review, and Resumption of Antidumping Investigation: Fresh Tomatoes from Mexico, 67 FR 50858 (August 6, 2002).

On November 8, 2002, the Department and Mexican tomato growers/exporters initialed a proposed agreement suspending the resumed antidumping investigation on imports of fresh tomatoes from Mexico. On December 4, 2002, the Department and certain growers/exporters of fresh tomatoes from Mexico signed a new suspension agreement (“2002 Suspension Agreement”). See Suspension of Antidumping Investigation: Fresh Tomatoes From Mexico, 67 FR 77044 (December 16, 2002). On November 3, 2003, the Department published the Final Results of Analysis of Reference Prices and Clarifications and Corrections; Agreement Suspending the Antidumping Duty Investigation on Fresh Tomatoes From Mexico, 68 FR 62281 (November 3, 2003).

On November 26, 2007, Mexican tomato growers/exporters accounting for a significant percentage of all fresh tomatoes imported into the United States from Mexico provided written notice to the Department of their withdrawal from the 2002 Suspension Agreement, effective 90 days from the date of their withdrawal letter (i.e., February 24, 2008), or earlier, at the Department's discretion. Because, as of February 24, 2008, the 2002 Suspension Agreement would no longer cover substantially all imports of fresh tomatoes from Mexico, the Department published a notice of intent to terminate the 2002 Suspension Agreement, intent to terminate the five-year sunset review of the suspended investigation, and intent to resume the antidumping investigation. See Fresh Tomatoes from Mexico: Notice of Intent to Terminate Suspension Agreement, Intent to Terminate the Five-Year Sunset Review, and Intent to Resume Antidumping Investigation, 72 FR 70820 (December 13, 2007).

Scope of the Investigation

The merchandise subject to this investigation is all fresh or chilled tomatoes (fresh tomatoes) which have Mexico as their origin, except for those tomatoes which are for processing. For purposes of this investigation, processing is defined to include preserving by any commercial process, such as canning, dehydrating, drying, or the addition of chemical substances, or converting the tomato product into juices, sauces, or purees. Fresh tomatoes that are imported for cutting up, not further processing (e.g., tomatoes used in the preparation of fresh salsa or salad bars), are covered by this Agreement.

Commercially grown tomatoes, both for the fresh market and for processing, are classified as Lycopersicon esculentum. Important commercial varieties of fresh tomatoes include common round, cherry, grape, plum, greenhouse, and pear tomatoes, all of which are covered by this investigation.

Tomatoes imported from Mexico covered by this investigation are classified under the following subheadings of the Harmonized Tariff Schedules of the United States (HTSUS), according to the season of importation: 0702 and 9906.07.01 through 9906.07.09. Although the HTSUS numbers are provided for convenience and customs purposes, the written description of the scope of this investigation is dispositive.

Period of Investigation

The period of investigation (POI) is March 1, 1995, through February 29, 1996.

Termination of Suspension Agreement

The 2002 Suspension Agreement is an agreement to eliminate injury under section 734(c) of the Act. Under this type of suspension agreement, the Department may suspend an investigation based upon an agreement with exporters accounting for substantially all of the imports of the subject merchandise. The regulations in turn define “substantially all” as exporters (growers and resellers) which have accounted for not less than 85 percent by value or volume of the merchandise during the period for which the Department is measuring dumping in the investigation or such other period that the Secretary considers representative. See 19 CFR 353.18(c).

On November 26, 2007, signatory growers/exporters accounting for a large percentage of all fresh tomatoes imported into the United States from Mexico provided written notice to the Department of their withdrawal from the 2002 Suspension Agreement. Pursuant to the terms of the 2002 Suspension Agreement, signatory growers/exporters may withdraw from the agreement upon 90 days written notice to the Department. Therefore, these withdrawals from the 2002 Suspension Agreement become effective on February 24, 2008, or earlier at the Department's discretion. Virtually all imports of fresh tomatoes from Mexico into the United States are accounted for by those growers/exporters which have withdrawn from the 2002 Suspension Agreement; the few signatories remaining in the 2002 Suspension Agreement will not account for substantially all of the imports of subject merchandise once the withdrawal becomes effective.

Accordingly, because the 2002 Suspension Agreement will not cover substantially all imports of fresh tomatoes from Mexico without the participation of the growers/exporters which provided their notice of withdrawal on November 26, 2007, the Department is terminating the 2002 Suspension Agreement, effective January 18, 2008.

Termination of Five-Year Sunset Review

On November 1, 2007, the Department initiated a five-year sunset review of the suspended antidumping investigation on fresh tomatoes from Mexico pursuant to section 751(c) of the Act. See Initiation of Five-Year (Sunset) Reviews, 72 FR 61861 (November 1, 2007). Because the Department is terminating the 2002 Suspension Agreement, there is no longer a suspended investigation for which to perform a sunset review. Therefore, the Department is terminating the sunset review of the suspended LTFV investigation on fresh tomatoes from Mexico, effective January 18, 2008.

Resumption of Antidumping Investigation

With the termination of the 2002 Suspension Agreement, effective January 18, 2008, the Department is resuming the underlying antidumping investigation, in accordance with section 734(i)(1)(B) of the Act. Pursuant to section 734(i)(1)(B) of the Act, the Department resumes the investigation as if it had published the affirmative preliminary determination under section 733(b) of the Act on January 18, 2008.

As explained in the Preliminary Determination, 61 FR at 56609, the Department postponed the final determination in this investigation until the 135th day after the date of the preliminary determination. Accordingly, the Department intends to issue its final determination in the resumed investigation by June 2, 2008.

Verification

As provided in section 782(i) of the Act, the Department will verify all information determined to be acceptable for use in making the final determination.

Suspension of Liquidation

The Department will instruct U.S. Customs and Border Protection (CBP) to suspend liquidation of entries of fresh tomatoes from Mexico that are entered, or withdrawn from warehouse, for consumption on or after January 18, 2008, the effective date of the termination of the 2002 Suspension Agreement. CBP shall require antidumping duty cash deposits or bonds for entries of the subject merchandise based on the preliminary dumping margins, which are as follows:

Grower/Exporter | Weighted-average margin percentage
San Vincente Camalu | 4.16
Ernesto Fernando Echavarria Salazar Grupo Solidario | 11.89
Arturo Lomeli Villalobas S.A. de C.V. | 26.97
Eco-Cultivos S.A. de C.V. | 188.45
Ranchos Los Pinos S. de R.L. de C.V. | 10.26
Administradora Horticola del Tamazula | 28.30
Agricola Yory, S. de P.R. de R.I. | 11.95
All Others | 17.56

International Trade Commission

The Department will notify the ITC of its termination of the 2002 Suspension Agreement, termination of the sunset review of the suspended investigation, and resumption of the LTFV investigation. If the Department makes a final affirmative determination, the ITC is scheduled to make its final determination concerning injury within 45 days after publication of the Department's final determination. If both the Department's and the ITC's final determinations are affirmative, the Department will issue an antidumping duty order.

Administrative Protective Order Access

Administrative protective orders previously granted in the original investigation will remain in effect. Any necessary amendments for changes in staff must be submitted promptly. Parties must use the APO application form in effect at the time of the original investigation, Form ITA-367(3.89).

We are issuing and publishing this determination under section 733(f) of the Act and 19 CFR 353.15.

Dated: January 10, 2008.
David M. Spooner,
Assistant Secretary for Import Administration.

[FR Doc. E8-670 Filed 1-15-08; 8:45 am]

BILLING CODE 3510-DS-P